NATIONAL AERONAUTICS AND SPACE ADMINISTRATION

[Notice: (10-039)]

NASA Advisory Council; Commercial Space Committee; Meeting

AGENCY: National Aeronautics and Space Administration.

ACTION: Notice of meeting.

SUMMARY: In accordance with the Federal Advisory Committee Act, Public Law 92-463, as amended, the National Aeronautics and Space Administration announces a meeting of the Commercial Space Committee of the NASA Advisory Council.

DATES: Monday, April 26, 2010, 1:30 p.m.-6 p.m. CDT.

ADDRESSES: NASA Johnson Space Center, Gilruth Conference Center, 2101 NASA Parkway, Houston, TX 77058.

FOR FURTHER INFORMATION CONTACT: Mr. John Emond, Innovative Partnerships Program, Office of the Chief Technologist, National Aeronautics and Space Administration, Washington, DC, 20546. Phone 202-358-1686, fax: 202-358-3878, john.l.emond@nasa.gov.

SUPPLEMENTARY INFORMATION: The agenda for the meeting includes a NASA Field Center's perspective (Johnson Space Center) on commercial crew and cargo missions. The meeting will also include a deliberative session to integrate the briefings and NASA presentations the committee received concerning commercial cargo and crew missions. The meeting will be open to the public up to the seating capacity of the room. It is imperative that the meeting be held on this date to accommodate the scheduling priorities of the key participants. Please email Mr. John Emond at john.l.emond@nasa.gov, if you plan to attend.

Dated: March 31, 2010.
P. Diane Rausch,
Advisory Committee Management Office, National Aeronautics and Space Administration.

[FR Doc. 2010-7771 Filed 4-5-10; 8:45 am]

BILLING CODE 7510-13-P